SECURITIES AND EXCHANGE COMMISSION

[Release No. 73953 ]

In the Matter of NASDAQ OMX PHLX, LLC; Order Granting Petition for Review and Scheduling Filing of Statements

December 30, 2014.

Pursuant to Rule 431 ¹ of the Rules of Practice, the petition of NASDAQ OMX PHLX LLC for review of the staff's action in disapproving by delegated authority File No. SR-Phlx-2013-113 ² is granted.

¹ 17 CFR 201.431.

² See Securities Exchange Act Release No. 72633 (July 16, 2014), 79 FR 42578 (July 22, 2014).

It is ordered, pursuant to Rule 431 that any party or other person may file a statement in support of or in opposition to the action made by delegated authority on or before January 20, 2015, and

The order disapproving such proposed rule change shall remain in effect.

By the Commission.
Brent J. Fields,
Secretary.

[FR Doc. 2014-30812 Filed 1-2-15; 8:45 am]

BILLING CODE 8011-01-P